DEPARTMENT OF EDUCATION

Submission for OMB Review; Comment Request

AGENCY: Department of Education.

ACTION: Correction Notice.

SUMMARY: On April 27, 2009, the Department of Education published a comment period notice in the Federal Register (Page 19072, Column 1) for the information collection, “Historically Black Colleges and Universities Masters Degree Program”. Interested persons are invited to submit comments on or before May 26, 2009. The IC Clearance Official, Regulatory Information Management Services, Office of Management, hereby issues a correction notice as required by the Paperwork Reduction Act of 1995.

Dated: April 30, 2009.
Angela C. Arrington,
IC Clearance Official, Regulatory Information Management Services, Office of Management.

[FR Doc. E9-10327 Filed 5-4-09; 8:45 am]

BILLING CODE 4000-01-P